DEPARTMENT OF TRANSPORTATION

Federal Aviation Administration

Fifty-Fifth Meeting, RTCA Special Committee 135: Environmental Conditions and Test Procedures for Airborne Equipment

AGENCY: Federal Aviation Administration (FAA), DOT.

ACTION: Notice of RTCA Special Committee 135: Environmental Conditions and Test Procedures for Airborne Equipment meeting.

SUMMARY: The FAA is issuing this notice to advise the public of a meeting of RTCA Special Committee 135: Environmental Conditions and Test Procedures for Airborne Equipment.

DATES: The meeting will be held March 17-19, 2010, starting at 9 a.m.

ADDRESSES: The meeting will be held at Honeywell International Inc., Deer Valley Facilities, 21111 N. 19th Ave., Phoenix, AZ.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 135: Environmental Conditions and Test Procedures for Airborne Equipment meeting. The agenda will include:

October 28-30

• Opening Session (Welcome, Chairman's Opening Remarks, Introductions)

• Approval of Summary from the Fifty-Fourth Meeting.

• RTCA Paper No. 006-10/SC135-676

• Status and Review of Revision of AC

• Report from Section 16, 20, 21, & 26 Working Groups

• Review List of Change Proposals for DO-160G/ED-14G

• Status of User Guide Material

• Review Schedule for DO-160G

• New/Unfinished Business

• Establish Date for Next SC-135 Meeting

• Closing

Attendance is open to the interested public but limited to space availability. With the approval of the chairmen, members of the public may present oral statements at the meeting. Persons wishing to present statements or obtain information should contact the person listed in the “FOR FURTHER INFORMATION CONTACT” section. Members of the public may present a written statement to the committee at any time.

Issued in Washington, DC, on February 19, 2010.
Francisco Estrada C.,
RTCA Advisory Committee.

[FR Doc. 2010-3939 Filed 2-25-10; 8:45 am]

BILLING CODE 4910-13-P